DEPARTMENT OF HOMELAND SECURITY

[Docket No. DHS-2015-0022]

Agency Information Collection Activities: Post-Award Contract Information

AGENCY: Office of the Chief Procurement Officer, DHS.

ACTION: 60-Day Notice and request for comments; Extension without change, 1600-0003.

SUMMARY: The Department of Homeland Security, Office of the Chief Procurement Officer, will submit the following Information Collection Request (ICR) to the Office of Management and Budget (OMB) for review and clearance in accordance with the Paperwork Reduction Act of 1995 (Pub. L. 104-13, 44 U.S.C. Chapter 35).

DATES: Comments are encouraged and will be accepted until July 13, 2015. This process is conducted in accordance with 5 CFR 1320.1

ADDRESSES: You may submit comments, identified by docket number DHS-2014-0022, by one of the following methods:

• Federal eRulemaking Portal: http://www.regulations.gov. Please follow the instructions for submitting comments.

• Email: dhs.pra@hq.dhs.gov Please include docket number DHS- 2015-0022 in the subject line of the message.

SUPPLEMENTARY INFORMATION: The Department of Homeland Security (DHS) collects information, when necessary, in administering public contracts for supplies and services. The information is used to determine compliance with contract terms placed in the contract as authorized by the Federal Property and Administrative Services Act (41 U.S.C. 251 et seq.), the Federal Acquisition Regulation (FAR) (48 CFR Chapter 1), and the Homeland Security Acquisition Regulation (HSAR) (48 CFR Chapter 30). Examples of information DHS contracting officers normally collect when administering contracts include notices of changes in key personnel, invoices, subcontracting reports, and evidence of compliance with hazardous removal requirements. Examples of collections under the HSAR include: 3052.204-71 Contractor employee access, 3052.205-70 Advertisements, Publicizing Awards, and Releases, 3052.209-72 Organizational Conflict of Interest, 3052.209-75 Prohibited Financial Interests for Lead System Integrators, 3052.215-70 Key personnel or facilities, 3052.219-70 Small Business subcontracting plan reporting, 3052.223-70 Removal or disposal of hazardous substances—applicable licenses and permits.

The information requested is used by the Government's contracting officers and other acquisition personnel, including technical and legal staff, for various reasons such as determining the suitability of contractor personnel accessing DHS facilities; to ensure no organizational conflicts of interest exist during the performance of contracts; to ensure the contractor maintains applicable licenses and permits for the removal and disposal of hazardous materials; and to otherwise ensure firms are performing in the Government's best interest. Failure to collect this information would adversely affect the quality of products and services DHS receives from contractors. For example, potentially, contractors who are lead system integrators could acquire direct financial interests in major systems the contractors are contracted to procure, which would compromise the integrity of acquisitions for the Department. In addition, contractors who own, control or operate a business providing protective guard services could possess felony convictions during the performance of contracts, putting the Department at risk. Furthermore, contractors could change key personnel during the performance of contracts and use less experienced or less qualified personnel to reduce costs, which would adversely affect DHS's fulfillment of its mission requirements.

Many sources of the requested information use automated word processing systems, databases, spreadsheets, project management and other commercial software to facilitate preparation of material to be submitted. With Government wide implementation of e-Government initiatives, it is commonplace within many of DHS's Components for submissions to be electronic.

Disclosure/non-disclosure of information is handled in accordance with the Freedom of Information Act, other disclosure statutes, and Federal and agency acquisition regulations.

Based upon definitive contract award data reported by DHS and its Components to the Federal Procurement Data System (FPDS) for Fiscal Year 2014. No program changes occurred, however the burden was adjusted to reflect an increase in the number of respondents within DHS for Fiscal Year 2014.

The prior information collection request for OMB No. 1600-0003 was approved through August 31, 2015 by OMB. This collection will be submitted to OMB for review to request an approval to extend the expiration date of the collection. There are no proposed changes to the information being collected, instructions, frequency of the collection or the use of the information being collected.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Chief Procurement Officer, DHS.

Title: Agency Information Collection Activities: Post-Award Contract Information.

OMB Number: 1600-0003.

Frequency: On occasion.

Affected Public: Private Sector.

Number of Respondents: 11,885.

Estimated Time per Respondent: 14 hours.

Total Burden Hours: 499,170 hours.

Dated: May 7, 2015.
Carlene C. Ileto,
Executive Director, Enterprise Business Management Office.

[FR Doc. 2015-11695 Filed 5-13-15; 8:45 am]

BILLING CODE 9110-9B-P